DEPARTMENT OF VETERANS AFFAIRS

Advisory Committee on Minority Veterans; Notice of Meeting

The Department of Veterans Affairs (VA) gives notice under the Public Law 92-463 (Federal Advisory Committee Act) that a meeting of the Advisory Committee on Minority Veterans will be held in Seattle, Washington from April 21-23, 2015, at the below times and locations:

On April 21, from 8:00 a.m. to 1:00 p.m., at the VA Puget Sound Health Care System, Building 100, 1660 South Columbian Way, Seattle, Washington; 1:30 p.m. to 3:15 p.m., at the Seattle Regional Benefit Office, Jackson Federal Building, 915 2nd Avenue, Seattle, WA; from 4:00 p.m. to 5:00 p.m., at the Seattle Vet Center, 4735 E. Marginal Way S, Room 1103, Seattle, WA;

On April 22, from 9:00 a.m. to 10:15 a.m., at the Tahoma National Cemetery, 18600 SE 240th St., Kent, WA; from 11:00 a.m. to 3:15 p.m., at the VA Puget Sound HCS-American Lake Campus, 9600 Veterans Dr., Tacoma, WA; 4:30 p.m. to 6:30 p.m., conducting a Town Hall Meeting at Building 9 (Auditorium), VA Puget Sound HCS-American Lake Division, 9600 Veterans Dr., Tacoma, WA; and

On April 23, from 8:00 a.m. to 4:45 p.m., at the VA Puget Sound HCS, 1660 South Columbian Way, Seattle, WA.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

On the morning of April 21 from 8:00 a.m. to 11:00 a.m., the Committee will meet in open session with key staff at the VA Puget Sound Health Care System to discuss services, benefits, delivery challenges, and successes. From 11:00 a.m. to 12:00 p.m., the Committee will convene a closed session in order to protect patient privacy as the Committee tours the VA Medical Center. In the afternoon from 1:30 p.m. to 3:00 p.m., the Committee will reconvene in a closed session in order to protect privacy of claims records as the Committee is briefed by senior Veterans Benefits Administration staff from the Seattle Regional Benefit Office. The Committee will travel to the Seattle Vet Center and will convene a closed session to meet with key staff at the Seattle Vet Center in order to protect patient privacy as the Committee tours the facility.

On the morning of April 22 from 9:00 a.m. to 10:15 a.m., the Committee will convene in open session at the Tahoma National Cemetery followed by a tour of the cemetery. The Committee will meet with key staff to discuss services, benefits, delivery challenges and successes. From 11:00 a.m. to 12:00 p.m., the Committee will tour the VA Puget Sound HCS-American Lake Campus. In the afternoon from 1:45 p.m. to 3:15 p.m., the Committee will reconvene in open session to be briefed and tour the Native American Sweat Lodge—American Lake. In the evening, the Committee will hold a Veterans Town Hall meeting at Building 9 (Auditorium), VA Puget Sound HCS-American Lake Division, beginning at 4:30 p.m.

On the morning of April 23 from 8:00 a.m. to 12:00 p.m., the Committee will convene in open session at the VA Puget Sound HCS to conduct an exit briefing with leadership from the VA Puget Sound HCS, Seattle Regional Benefit Office, and Tahoma National Cemetery. In the afternoon from 1:00 p.m. to 4:30 p.m., the Committee will work on drafting recommendations for the annual report to the Secretary.

Portions of these visits are closed to the public in accordance with 5 U.S.C. 552b(c)(6). Exemption 6 permits to Committee to close those portions of a meeting that are likely to disclose information of a personal nature where disclosure would constitute a clearly unwarranted invasion of personal privacy. During the closed sessions the Committee will discuss VA beneficiary and patient information in which there is a clear unwarranted invasion of the Veteran or beneficiary privacy.

Time will be allocated for receiving public comments on April 23, at 10 a.m. Public comments will be limited to three minutes each. Individuals wishing to make oral statements before the Committee will be accommodated on a first-come first serve basis. Individuals who speak are invited to submit a 1-2 page summaries of their comments at the time of the meeting for inclusion in the official record. The Committee will accept written comments from interested parties on issues outlined in the meeting agenda, as well as other issues affecting minority Veterans. Such comments should be sent to Ms. Juanita Mullen, Advisory Committee on Minority Veterans, Center for Minority Veterans (00M), Department of Veterans Affairs, 810 Vermont Avenue NW., Washington, DC 20420, or email at Juanita.Mullen@va.gov. For additional information about the meeting, please contact Ms. Juanita Mullen at (202) 461-6199.

Dated: March 17, 2015.
Jelessa Burney,
Federal Advisory Committee Management Officer.

[FR Doc. 2015-06423 Filed 3-19-15; 8:45 am]

BILLING CODE P